FEDERAL DEPOSIT INSURANCE CORPORATION

Agency Information Collection Activities: Submission For OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the information collection system described below.

Type of Review: Revision of a currently approved collection.

Title: Forms Relating to FDIC Outside Counsel Services.

OMB Number: 3064-0122.

Form Numbers: 5000/24; 5000/25; 5000/26; 5000/27; 5000/28; 5000/29; 5000/31; 5000/32; 5000/33; 5000/34; 5000/35; 5000/36; 5200/01.

Annual Burden

Estimated annual number of respondents | 2,783
Estimated time per response | varies from ½ hour to 1.25 hours
Total annual burden hours | 2,027.75 hours

Expiration Date of OMB Clearance: October 31, 2000.

OMB Reviewer: Alexander T. Hunt, (202) 395-7860, Office of Management and Budget, Office of Information and Regulatory Affairs, Washington, D.C. 20503.

FDIC Contact: Tamara R. Manly, (202) 898-7453, Office of the Executive Secretary, Room F-4058, Federal Deposit Insurance Corporation, 550 17th Street N.W., Washington, D.C. 20429.

Comments: Comments on this collection of information are welcome and should be submitted on or before September 11, 2000, to both the OMB reviewer and the FDIC contact listed above.

ADDRESSES: Information about this submission, including copies of the proposed collection of information, may be obtained by calling or writing the FDIC contact listed above.

SUPPLEMENTARY INFORMATION: The collection ensures that law firms that seek to provide legal services to the FDIC meet the eligibility requirements established by Congress.

Dated: August 7, 2000.
Federal Deposit Insurance Corporation.
James D. LaPierre,
Deputy Executive Secretary.

[FR Doc. 00-20447 Filed 8-10-00; 8:45 am]

BILLING CODE 6714-01-U